DEPARTMENT OF HOUSING AND URBAN DEVELOPMENT

[Docket No. FR-4806-D-09]

Redelegation of Authority to Field Office Director; Camden Field Office

AGENCY: Office of the Regional Director—Region II, HUD.

ACTION: Notice of redelegation of authority to Field Office Director—Camden, NJ Field Office.

SUMMARY: The Deputy Secretary of HUD, through the Assistant Deputy Secretary for Field Policy and Management, has delegated certain operational management authority to HUD Regional Directors. See, 67 FR 13790 (March 26, 2002.) That delegation provided Regional Directors with the authority necessary to manage programs and resources located in HUD regional and field offices nationwide. Currently, the Regional Directors are located in Region I (Boston, MA); Region II (New York, NY); Region III (Philadelphia, PA); Region IV (Atlanta, GA); Region V (Chicago, IL); Region VI (Ft. Worth, TX); Region VII (Kansas City, KS); Region VIII (Denver, CO); Region IX (San Francisco, CA) and Region X (Seattle, WA.) Under that delegation, Regional Directors were delegated specific authorities pertaining to cross program coordination, personnel management, administrative management, resource management, and representation regarding matters within their respective region. That delegation also permitted the Regional Directors to redelegate certain operational management authorities to Field Office Directors under their respective jurisdictions. All such redelegations must be in writing and identify the specific authorities redelegated. Redelegations of authority should be reviewed by the appropriate Regional Counsel for that jurisdiction, and the Office of Field Policy and Management, Headquarters, prior to signature and publication. In this redelegation of authority, the Regional Director—Region II redelegates certain operational management authorities, as specified below to the Field Office Director—Camden Field Office.

EFFECTIVE DATE: October 11, 2002.

FOR FURTHER INFORMATION CONTACT: Bob Etchison, Office of Field Policy and Management, Department of Housing and Urban Development, 451 7th Street, SW., Washington, DC 20410, (202) 708-1123 (This is not a toll-free number). This number may be accessed via TTY by calling the Federal Information Relay Service at 1-800-877-8339. Comments or questions can be submitted through the Internet to Bob_Etchison@hud.gov.

SUPPLEMENTARY INFORMATION: This redelegation of authority is designed to improve efficiency, effectiveness, and accountability of management operations. It is designed to help provide a managerial framework that promotes customer service and encourages coordination among and within the field offices.

Accordingly, the Regional Director—Region II redelegates to the Field Office Director—Camden Field Office authority within his or her respective jurisdiction as follows:

Section A. Authority Redelegated

1. Cross-Program Coordination

• Developing and implementing Management Plans at the Field Office level;

• Coordinating cross-program projects and Field Office Quality Management Reviews;

• Preparing briefing papers and hot issues documents;

• Leading disaster relief efforts; and

• Consulting with program directors on major program decisions. Where there is a disagreement, the Field Office Director shall consult with the Regional Director. Consistent with the Delegation of Authority at 67 FR 13790 (March 26, 2002), the Regional Director can trigger a review by Headquarters through the Assistant Deputy Secretary for Field Policy and Management.

2. Personnel Management

• Providing input on the performance ratings of managers and supervisors within the jurisdiction of the Field Office Director—Camden, Field Office;

• Approving short-term details across program area lines (not to exceed thirty days). Regional Directors may authorize an additional 30 days;

• Approving leave requests for managers and supervisors;

• Participating in the hiring process for managers and supervisors within the jurisdiction of the Field Office Director;

• Acting as supervisor, or when necessary, assigning a supervisor, to outstationed staff; and

• Managing and conducting labor/management relations.

3. Administrative Management

• Determining official office hours, opening, emergency closing, and emergency procedures.

4. Resource Management

• Managing the administrative budget, e.g., training, equipment, etc.;

• Approving program travel requests; and

• Redistributing up to 20% of travel funds among program areas in coordination with the Regional Director and the Assistant Deputy Secretary for Field Policy and Management.

5. Representation

• Developing and maintaining the lead point of contact with local officials, at the Field Office level;

• Maintaining the role as principal point of contact with industry groups, at the Field Office level;

• Managing all inquiries and correspondence, including Freedom of Information Act requests, Congressional and Intergovernmental communications, at the Field Office level;

• Responding on a case-by-case basis to media inquiries, at the Field Office level, in conjunction with the Regional Director, Headquarters and the Office of Public Affairs;

• Administering the local office's Web page and internet sources; and

• Monitoring and evaluating customer service at the Field Office level.

Section B. No Authority To Further Redelegate

The Field Office Director—Camden, Field Office may not further redelegate the specific operational management authorities redelegated within this document. All previous delegated or redelegated authority to field office managers and supervisors inconsistent with this Redelegation of Authority is hereby revoked.

Authority: Delegation of Authority to Regional Directors, 67 FR 13790 (March 26, 2002.) section 7(d), Department of Housing and Urban Development Act, 42 U.S.C. 3535(d).

Dated: October 11, 2002.
Marisel Morales,
Regional Director—Region II, Department of Housing and Urban Development.

[FR Doc. 03-549 Filed 1-10-03; 8:45 am]

BILLING CODE 4210-32-P